DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat constituting the dependent resurvey of a portion of the subdivisional lines and a portion of Mineral Survey No. 3412, and the metes-and-bounds survey of lots 2, 7, 9, 13 and 20, in section 9, T. 24 N., R. 5 E. of the Boise Meridian, Idaho, Group Number 1293, was accepted January 6, 2011.

The plat constituting the entire survey record of the dependent resurvey of portions of the Third Standard Parallel North (north boundary) and subdivisional lines, and the subdivision of section 2, T. 12 N., R. 38 E., Boise Meridian, Idaho, Group Number 1303, was accepted January 20, 2011.

The plat constituting the dependent resurvey of a portion of the west boundary and subdivisional lines, and the dependent resurvey of the Gem Mill Site, Mineral Survey No. 1949 B, located in the NE¼ NW¼ of section 30, T. 22 N., R. 24 E., of the Boise Meridian, Idaho, Group Number 1306, was accepted January 27, 2011.

The plat constituting the dependent resurvey of portions of the south boundary and subdivisional lines, and the subdivision of sections 32, 33, and 34, T. 15 S., R. 35 E., of the Boise Meridian, Idaho, Group Number 1298, was accepted February 3, 2011.

The plat constituting the dependent resurvey of a portion of the subdivisional lines, and the subdivision of sections 13 and 24, T. 1 N., R. 18 E., of the Boise Meridian, Idaho, Group Number 1307, was accepted February 10, 2011.

The plat representing the dependent resurvey and subdivision of sections 22 and 24, T. 13 N., R. 38 E., Boise Meridian, Idaho, Group Number 1311, was accepted March 11, 2011.

The supplemental plat in sections 27, 30, and 34, T. 3 N., R. 16 E., Boise Meridian, Idaho, Group Number 1340, accepted March 14, 2011.

The plat constituting the entire survey record of the dependent resurvey of a portion of Mineral Survey Number 3068A and B, in section 25, T. 4 N., R. 18 E., Boise Meridian, Idaho, Group Number 1304, was accepted March 29, 2011.

The plat representing the dependent resurvey of portions of the east boundary, subdivisional lines, and 1894 meanders of the North Fork of the Payette River in sections 12 and 13, and the subdivision of sections 12, 13, and 24, and the survey of a portion of the 1998 and 2007-2009 right bank meanders of the North Fork of the Payette River, the survey of certain islands in the North Fork of the Payette River in sections 12 and 13, the survey of the 2007-2009 informative traverse of portions of the right bank of the North Fork of the Payette River in sections 12 and 13, and the survey of a 1998 and 2007-2009 partition line in section 13, T. 17 N., R. 2 E., Boise Meridian, Idaho, Group Number 1252, was accepted February 24, 2011.

SUMMARY: For Group Number 1252: The Bureau of Land Management (BLM) will file the plat of survey of the lands described above in the BLM Idaho State Office, Boise, Idaho 30 days from the date of publication in the Federal Register.

These surveys were executed at the request of the Bureau of Indian Affairs to meet their administrative needs. The lands surveyed are:

The plat representing the dependent resurvey of portions of the 7th Standard Parallel North (north boundary), the Boise Meridian (west boundary), and subdivisional lines, and the subdivision of sections 5, 6, 7, 8, 17, 18, 20, 21, 29, and 32, T. 35 N., R. 1 E., Boise Meridian, Idaho, Group Number 1233, was accepted February 24, 2011.

The plat constituting the dependent resurvey of a portion of the subdivision in section 27, in T. 35 N., R. 4 W., of the Boise Meridian, Idaho, Group Number 1302, was accepted February 25, 2011.

The supplemental plat in sections 10 and 11, T. 2 S., R. 37 E., Boise Meridian, Idaho, Group 1268, accepted March 15, 2011.

Dated: April 15, 2011.
Stanley G. French,
Chief Cadastral Surveyor for Idaho.

[FR Doc. 2011-10001 Filed 4-25-11; 8:45 am]

BILLING CODE 4310-GG-P